DEPARTMENT OF LABOR

Employment and Training Administration

[TA-W-62,516]

Northern Machine Tool Company Muskegon, MI; Notice of Termination of Investigation

Pursuant to Section 221 of the Trade Act of 1974, as amended, an investigation was initiated on November 30, 2007, in response to a petition filed by a company official on behalf of workers of Northern Machine Tool Company, Muskegon, Michigan.

The petitioner has requested that the petition be withdrawn. Consequently, the investigation has been terminated.

Signed at Washington, DC, this 20th day of February, 2008.
Linda G. Poole,
Certifying Officer, Division of Trade Adjustment Assistance.

[FR Doc. E8-3796 Filed 2-28-08; 8:45 am]

BILLING CODE 4510-FN-P